COMMISSION ON CIVIL RIGHTS

Notice of Public Meeting of the Commonwealth of the Northern Mariana Islands Advisory Committee to the U.S. Commission on Civil Rights

AGENCY: U.S. Commission on Civil Rights.

ACTION: Notice of public meeting.

SUMMARY: Notice is hereby given, pursuant to the provisions of the rules and regulations of the U.S. Commission on Civil Rights (Commission) and the Federal Advisory Committee Act, that the Commonwealth of the Northern Mariana Islands Advisory Committee (Committee) to the U.S. Commission on Civil Rights will hold a public meeting via Zoom at 9:30 a.m. ChST on Friday, October 27, 2023 (7:30 p.m. ET on Thursday, October 26, 2023). The purpose of the meeting is to debrief on the Committee's prior briefing on healthcare in the CNMI judicial system, as well as plan for future briefings.

DATES:

Friday, October 27, 2023, from 9:30 a.m.-11:00 a.m. Chamorro Standard Time.

(Thursday, October 26, 2023, from 7:30 p.m.-9:00 p.m. Eastern Time).

ADDRESSES: The meeting will be held via Zoom.

FOR FURTHER INFORMATION CONTACT: Kayla Fajota, Designated Federal Officer, at kfajota@usccr.gov or (434) 515-2395.

SUPPLEMENTARY INFORMATION:

Registration Link (Audio/Visual): https://www.zoomgov.com/j/1615183627.

Join by Phone (Audio Only): (833) 435-1820 USA Toll-Free; Meeting ID: 161 518 3627.

This committee meeting is available to the public through the registration link above. Any interested member of the public may listen to the meeting. An open comment period will be provided to allow members of the public to make a statement as time allows. Per the Federal Advisory Committee Act, public minutes of the meeting will include a list of persons who are present at the meeting. If joining via phone, callers can expect to incur regular charges for calls they initiate over wireless lines, according to their wireless plan. The Commission will not refund any incurred charges. Callers will incur no charge for calls they initiate over land-line connections to the toll-free telephone number. Closed captioning will be available for individuals who are deaf, hard of hearing, or who have certain cognitive or learning impairments. To request additional accommodations, please email Liliana Schiller, Support Services Specialist, at lschiller@usccr.gov at least 10 business days prior to the meeting.

Members of the public are entitled to submit written comments; the comments must be received in the regional office within 30 days following the meeting. Written comments may be emailed to Kayla Fajota at kfajota@usccr.gov. Persons who desire additional information may contact the Regional Programs Coordination Unit at (312) 353-8311.

Records generated from this meeting may be inspected and reproduced at the Regional Programs Coordination Unit Office, as they become available, both before and after the meeting. Records of the meetings will be available via www.facadatabase.gov under the Commission on Civil Rights, Commonwealth of the Northern Mariana Islands Advisory Committee link. Persons interested in the work of this Committee are directed to the Commission's website, http://www.usccr.gov, or may contact the Regional Programs Coordination Unit at lschiller@usccr.gov.

Agenda

I. Welcome & Roll Call

II. Discussion: September Briefing

III. Planning: Potential Vote for Briefing #2

IV. Public Comment

V. Adjournment

Dated: October 6, 2023.
David Mussatt,
Supervisory Chief, Regional Programs Unit.

[FR Doc. 2023-22601 Filed 10-12-23; 8:45 am]

BILLING CODE P